DEPARTMENT OF TRANSPORTATION

Federal Aviation Administration

14 CFR Part 39

[Docket No. FAA-2007-27013; Directorate Identifier 2006-NM-236-AD; Amendment 39-15022; AD 2007-08-05]

RIN 2120-AA64

Airworthiness Directives; Airbus Model A330-200, A330-300, A340-200, and A340-300 Series Airplanes

AGENCY: Federal Aviation Administration (FAA), Department of Transportation (DOT).

ACTION: Final rule.

SUMMARY: We are adopting a new airworthiness directive (AD) for the products listed above. This AD results from mandatory continuing airworthiness information (MCAI) issued by an airworthiness authority of another country to identify and correct an unsafe condition on an aviation product. The MCAI describes the unsafe condition as fatigue damage with a crack propagation through the fastener line of the wing shroud box bottom panel, resulting in panel detachment and potential injuries to persons on the ground. We are issuing this AD to require actions to correct the unsafe condition on these products.

DATES: This AD becomes effective May 18, 2007.

The Director of the Federal Register approved the incorporation by reference of certain publications listed in this AD as of May 18, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Discussion

The FAA is implementing a new process for streamlining the issuance of ADs related to MCAI. This streamlined process will allow us to adopt MCAI safety requirements in a more efficient manner and will reduce safety risks to the public. This process continues to allow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

We issued a notice of proposed rulemaking (NPRM) to amend 14 CFR part 39 to include an AD that would apply to the specified products. That NPRM was published in the Federal Register on January 26, 2007 (72 FR 3771). That NPRM proposed to require performing a one-time detailed inspection of the shroud box bottom panel for cracks, fasteners missing or loose, damage, and marks; and applying all applicable corrective actions. The MCAI states that an A330 operator has reported a shroud box bottom panel missing during routine inspection. The same panel detached from an A330 aircraft during take-off, causing damages to the surrounding structure and to the Trimmable Horizontal Stabilizer (THS) tip fairing. Preliminary inspection has shown that the blind rivets used to attach the panel worked loose causing the panel to suffer fatigue damage with a crack propagation through the fastener line resulting in panel detachment. To avoid potential injuries to persons on ground, the MCAI mandates a one time detailed visual inspection of the shroud box bottom panel for cracks in the panel and for missing and loose fasteners, and repair if necessary.

Comments

We gave the public the opportunity to participate in developing this AD. We received no comments on the NPRM or on the determination of the cost to the public.

Clarification of Service Bulletin Reference

The “Relevant Service Information” section of the NPRM, and paragraph (g) of the NPRM refer to Airbus Service Bulletin A330-57A3092, February 3, 2006, as one of the appropriate sources of service information to do the actions in the NPRM. However, in paragraph (e) of the NPRM, we inadvertently referred to Airbus Service Bulletin A330-57A3792, dated February 3, 2006. We have revised paragraph (e) of this AD accordingly.

Conclusion

We reviewed the available data, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow our FAA policies. Any such differences are described in a separate paragraph of the AD. These requirements, if any, take precedence over the actions copied from the MCAI.

Costs of Compliance

We estimate that this AD will affect 27 products of U.S. registry. We also estimate that it will take about 2 work-hours per product to comply with this AD. The average labor rate is $80 per work-hour. Based on these figures, we estimate the cost of this AD to the U.S. operators to be $4,320, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-08-05 Airbus: Amendment 39-15022. Docket No. FAA-2007-27013; Directorate Identifier 2006-NM-236-AD.

Effective Date

(a) This airworthiness directive (AD) becomes effective May 18, 2007.

Affected ADs

(b) None.

Applicability

(c) This AD applies to Airbus Model A330-200, A330-300, A340-200, and A340-300 series airplanes, all certified models, all serial numbers, certificated in any category, on which Airbus Modification 42061 or 46077 or 53604 has been embodied in production and delivered before December 31, 2005.

Reason

(d) The mandatory continuing airworthiness information (MCAI) states that an A330 operator has reported a shroud box bottom panel missing during routine inspection. The same panel detached from an A330 aircraft during take-off, causing damages to the surrounding structure and to the Trimmable Horizontal Stabilizer (THS) tip fairing. Preliminary inspection has shown that the blind rivets used to attach the panel worked loose causing the panel to suffer fatigue damage with a crack propagation through the fastener line resulting in panel detachment. To avoid potential injuries to persons on ground, the MCAI requires a one time detailed visual inspection of the shroud box bottom panel for cracks in the panel and for missing and loose fasteners, and applicable repairs.

Actions and Compliance

(e) Unless already done, do the following actions. Within the threshold specified in paragraphs (e)(1) and (e)(2) of this AD and in accordance with the instructions of Airbus Service Bulletin A330-57A3092, dated February 3, 2006; or Airbus Service Bulletin A340-57A4101, dated February 3, 2006; as applicable: Perform a one-time detailed inspection of the shroud box bottom panel for cracks, fasteners missing or loose, damage, and marks; and apply all applicable corrective actions. Do applicable corrective actions before further flight. The inspections results, whatever they are, must be reported to Airbus.

(1) For Model A330 airplanes: Whichever occurs later between paragraphs (e)(1)(i) and (e)(1)(ii) of this AD.

(i) Prior to the accumulation of 1,200 flight cycles or 2,400 flight hours from the first flight of the aircraft, whichever occurs first.

(ii) Within 6 months or 1,200 flight hours, whichever occurs first, following the effective date of this AD.

(2) For Model A340-200 and A340-300 series airplanes: Whichever occurs later between paragraphs (e)(2)(i) and (e)(2)(ii) of this AD.

(i) Prior to the accumulation of 1,200 flight cycles or 4,800 flight hours from the first flight of the aircraft, whichever occurs first.

(ii) Within 6 months or 2,400 flight hours, whichever occurs first, following the effective date of this AD.

Other FAA AD Provisions

(f) The following provisions also apply to this AD:

(1) Alternative Methods of Compliance (AMOCs): The Manager, International Branch, ANM-116, Transport Airplane Directorate, FAA, Attn: Tim Backman, Aerospace Engineer, 1601 Lind Avenue, SW., Renton, Washington 98057-3356, has the authority to approve AMOCs for this AD, if requested using the procedures found in 14 CFR 39.19. Before using any AMOC approved in accordance with § 39.19 on any airplane to which the AMOC applies, notify the appropriate principal inspector in the FAA Flight Standards Certificate Holding District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(g) Refer to MCAI European Aviation Safety Agency Airworthiness Directive 2006-0107, dated May 12, 2006, and Airbus Service Bulletins A330-57A3092 and A340-57A4101, both dated February 3, 2006, for related information.

Material Incorporated by Reference

(h) You must use Airbus Service Bulletin A330-57A3092, dated February 3, 2006; or Airbus Service Bulletin A340-57A4101, dated February 3, 2006; as applicable, to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on April 4, 2007.
Stephen P. Boyd,
Acting Manager, Transport Airplane Directorate, Aircraft Certification Service.

[FR Doc. E7-6931 Filed 4-12-07; 8:45 am]

BILLING CODE 4910-13-P